ENVIRONMENTAL PROTECTION AGENCY

[EPA-HQ-OPP-2017-0628, EPA-HQ-OPP-2015-0715, EPA-HQ-OPP-2017-0440, EPA-HQ-OPP-2017-0687, EPA-HQ-OPP-2017-0619, EPA-HQ-OPP-2016-0108, and EPA-HQ-OPP-2016-0630; FRL-10010-29]

Agency Information Collection Activities; Proposed Renewal of Seven Existing Information Collection Requests (ICRs) Undergoing Consolidation; Comment Request

AGENCY: Environmental Protection Agency (EPA).

ACTION: Notice.

SUMMARY: In compliance with the Paperwork Reduction Act (PRA), this document announces that EPA is planning to submit renewal requests for seven currently approved Information Collection Requests (ICRs) to the Office of Management and Budget (OMB). The seven renewal ICRs, which are identified in Unit IV. by their corresponding titles, EPA ICR numbers, OMB Control numbers, and related docket identification (ID) numbers, are being consolidated under a separate but parallel effort. To ensure continuity of the approved collection activities, EPA did not make any changes to the currently approved ICRs for the purpose of these renewals. As required by the PRA, before submitting these ICRs to OMB for review and approval, EPA is soliciting comments on specific aspects of the information collection activities that are summarized in this document. The ICRs and accompanying material are available for public review and comment in the relevant dockets identified in this document for each ICR.

DATES: Comments must be received on or before October 16, 2020.

ADDRESSES: Submit your comments, identified by the docket identification (ID) number for the corresponding ICR as identified in Unit IV. of this document, using the following method:

• Federal eRulemaking Portal: http://www.regulations.gov. Follow the online instructions for submitting comments. Do not submit electronically any information you consider to be Confidential Business Information (CBI) or other information whose disclosure is restricted by statute.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Carolyn Siu, Field and External Affairs Division, 7650P, Office of Pesticide Programs, Environmental Protection Agency, 1200 Pennsylvania Ave. NW, Washington, DC 20460-0001; telephone number: (703) 347-0159; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Submit your comments by the deadline identified under DATES.

6. In the subject line on the first page of your response, identify the docket ID number that is assigned to the ICR action. You may also provide the ICR title and related EPA and OMB numbers. For the ICRs that are the subject of this notice, please refer to the information in Unit IV.

III. What do I need to know about the PRA?

An agency may not conduct or sponsor, and a person is not required to respond to, a collection of information subject to PRA approval unless it displays a currently valid OMB control number. The OMB control numbers for the EPA regulations in title 40 of the Code of Federal Regulations (CFR), after appearing in the preamble of the final rule, are further displayed either by publication in the Federal Register or by other appropriate means, such as on the related collection instruments or form, if applicable. The display of OMB control numbers for certain EPA regulations is consolidated in a list at 40 CFR 9.1.

As used in the PRA context, burden is defined in 5 CFR 1320.3(b).

IV. Which ICRs are being renewed?

EPA is planning to submit the seven ICR renewal requests to OMB for review and approval under PRA that are identified in this unit, which provides the ICR titles and corresponding ICR, OMB and docket ID numbers. This unit also provides a brief summary of the information collection activity and the Agency's estimated burden and costs. The Supporting Statement for each ICR, a copy of which is available in the corresponding docket, provides a more detailed explanation of the collection activities and the Agency's estimates.

Please note that EPA intends to request the renewal of the ICRs without any substantive changes to what is currently approved because these seven ICRs are being consolidated in a separate effort. Ensuring the continuity of the existing approvals during the consolidation these ICRs is an administrative action that is intended to focus EPA and the public on the consolidation. EPA will announce and seek comment on the consolidated ICR later this summer.

A. Docket ID Number EPA-HQ-OPP-2017-0628

Title: Experimental Use Permits (EUPs) for Pesticides.

ICR number: EPA ICR No. 0276.17.

OMB control number: OMB Control No. 2070-0040.

ICR status: The approval for this ICR is scheduled to expire on February 28, 2021.

Abstract: The information collection provides EPA with the data necessary to determine whether to issue an experimental use permit (EUP) under section 5 of the Federal Insecticide, Fungicide, and Rodenticide Act (FIFRA). FIFRA requires that before a pesticide product may be distributed or sold in the U.S., it must be registered by EPA. However, FIFRA section 5 authorizes EPA to issue an EUP to allow pesticide companies to temporarily ship pesticide products for experimental use for the purpose of gathering data necessary to support the application for registration of a pesticide product. In general, EUPs are issued either for a pesticide not registered with the Agency or for a new use of a registered pesticide.

Burden statement: The annual public reporting and recordkeeping burden for this collection of information is estimated to range between 32.8-147 hours per response. The ICR, a copy of which is available in the docket, provides a detailed explanation of this estimate, which is only briefly summarized here:

Respondents/Affected entities: Entities potentially affected by this ICR include Pesticide and other Agricultural Chemical Manufacturing.

Estimated total number of potential respondents: 31.

Frequency of response: On occasion.

Estimated total annual burden hours: 567 hours.

Estimated total annual costs: $37,497. This includes an estimated burden cost of $37,497 and an estimated cost of $0 for non-burden hour paperwork costs, e.g., investment or maintenance and operational costs.

Changes in the estimates from the last approval: There are no changes in the estimates.

B. Docket ID Number EPA-HQ-OPP-2015-0715

Title: Tolerance Petitions for Pesticides on Food or Feed Crops and New Food Use Inert Ingredients.

ICR number: EPA ICR No. 0597.13.

OMB control number: OMB Control No. 2070-0024.

ICR status: The approval for this ICR is scheduled to expire on April 30, 2022.

Abstract: The use of pesticides to increase crop production often results in pesticide residues in or on the crop. To protect public health from unsafe pesticide residues, EPA sets limits on the nature and level of residues permitted pursuant to section 408 of the Federal Food, Drug and Cosmetic Act (FFDCA). A pesticide may not be used on food or feed crops unless the Agency has established a tolerance (maximum residue limit) for the pesticide residues on that crop or established an exemption from the requirement to have a tolerance.

Burden statement: The annual public reporting and recordkeeping burden for this collection of information is estimated to range between 1,726-1,739 hours per response. The ICR, a copy of which is available in the docket, provides a detailed explanation of this estimate, which is only briefly summarized here:

Respondents/Affected entities: Entities potentially affected by this ICR include individuals or entities engaged in activities related to the registration of a pesticide product and establishments primarily engaged in administrative management and general management consulting services.

Estimated total number of potential respondents: 165.

Frequency of response: On occasion.

Estimated total annual burden hours: 285,128 hours.

Estimated total annual costs: $27,475,223. This includes an estimated burden cost of $27,475,223 and an estimated cost of $0 for non-burden hour paperwork costs, e.g., investment or maintenance and operational costs.

Changes in the estimates from the last approval: There are no changes in the estimates.

C. Docket ID Number EPA-HQ-OPP-2017-0440

Title: Plant-Incorporated Protectants; CBI Substantiation and Adverse Effects Reporting.

ICR number: EPA ICR No. 1693.10.

OMB control number: OMB Control No. 2070-0142.

ICR status: The approval for this ICR is scheduled to expire on February 28, 2021.

Abstract: EPA is responsible for the regulation of pesticides as authorized by FIFRA. Prior to EPA granting a registration, the manufacturer of the pesticide must demonstrate to the Agency that the use of the pesticide product will not result in any unreasonable adverse effects to humans or the environment. EPA is also responsible under FFDCA for establishing a tolerance or exemption from the requirement of a tolerance for pesticide residues on food or feed.

Burden statement: The annual public reporting and recordkeeping burden for this collection of information is estimated to average 7.0-21.5 hours per response. The ICR, a copy of which is available in the docket, provides a detailed explanation of this estimate, which is only briefly summarized here:

Respondents/Affected entities: Entities potentially affected by this ICR include pesticides and other agricultural chemical manufacturing, research and development in the physical, engineering, and life sciences, biological products (except diagnostic) manufacturing, colleges, universities, and professional schools, farm supplies wholesalers, flower, nursery stock, and florists' supplies (wholesalers).

Estimated total number of potential respondents: 25.

Frequency of response: On occasion.

Estimated total annual burden hours: 518 hours.

Estimated total annual costs: $41,892. This includes an estimated burden cost of $41,892 and an estimated cost of $0 for non-burden hour paperwork costs, e.g., investment or maintenance and operational costs.

Changes in the estimates from the last approval: There are no changes in the estimates.

D. Docket ID Number EPA-HQ-OPP-2017-0687

Title: Submission of Unreasonable Adverse Effects Information under FIFRA Section 6(a)(2).

ICR number: EPA ICR No. 1204.14.

OMB control number: OMB Control No. 2070-0039.

ICR status: The approval for this ICR is scheduled to expire on February 28, 2021.

Abstract: FIFRA section 6(a)(2) requires pesticide registrants to submit information to the Agency which may be relevant to the balancing of the risks and benefits of a pesticide product. The statute requires the registrant to submit any factual information that it acquires regarding adverse effects associated with its pesticidal products, and it is up to the Agency to determine whether or not that factual information constitutes an unreasonable adverse effect. In order to limit the amount of less meaningful information that might be submitted to the Agency, the EPA has limited the scope of factual information that the registrant must submit. The Agency's regulations at 40 CFR part 159 provide a detailed description of the reporting obligations of registrants under FIFRA section 6(a)(2).

Burden statement: The annual public reporting and recordkeeping burden for this collection of information is estimated to average 2.37-3.00 hours per response. The ICR, a copy of which is available in the docket, provides a detailed explanation of this estimate, which is only briefly summarized here:

Respondents/Affected entities: Entities potentially affected by this ICR include those in pesticide and other agricultural chemical manufacturing.

Estimated total number of potential respondents: 1,452.

Frequency of response: On occasion.

Estimated total annual burden hours: 301,118 hours.

Estimated total annual costs: $ 19,999,815. This includes an estimated burden cost of $19,999,815 and an estimated cost of $0 for non-burden hour paperwork costs, e.g., investment or maintenance and operational costs.

Changes in the estimates from the last approval: There are no changes in the estimates.

E. Docket ID Number EPA-HQ-OPP-2017-0619

Title: Pesticide Program Public Sector Collections (FIFRA Sections 18 & 24(c)).

ICR number: EPA ICR No. 2311.04.

OMB control number: OMB Control No. 2070-0182.

ICR status: The approval for this ICR is scheduled to expire on February 28, 2021.

Abstract: This ICR covers the paperwork burden under the PRA that is associated with two types of pesticide registration requests made by States, U.S. Territories, or Federal agencies. Specifically, this ICR covers emergency exemption requests, which allow for an unregistered use of a pesticide, and State registrations of a pesticide use to meet a special local need (SLN). FIFRA section 18 authorizes EPA to grant emergency exemptions to States, U.S. Territories, and Federal agencies to allow an unregistered use of a pesticide for a limited time if EPA determines that emergency conditions exist. FIFRA Section 18 requests include unregistered pesticide use exemptions for specific agricultural, public health, quarantine and crisis purposes. FIFRA Section 24(c) authorizes any particular State to register additional uses of a federally registered pesticide for distribution and use within that state to meet a SLN.

Burden statement: The annual public reporting and recordkeeping burden for this collection of information is estimated to average 39-99 hours per response. The ICR, a copy of which is available in the docket, provides a detailed explanation of this estimate, which is only briefly summarized here:

Respondents/Affected entities: Entities potentially affected by this ICR include States and Federal government agencies and pesticide, fertilizer, and other agricultural chemical manufacturing.

Estimated total number of potential respondents: 283.

Frequency of response: On occasion.

Estimated total annual burden hours: 25,753 hours.

Estimated total annual costs: $1,829,103. This includes an estimated burden cost of $1,829,103 and an estimated cost of $0 for non-burden hour paperwork costs, e.g., investment or maintenance and operational costs.

Changes in the estimates from the last approval: There are no changes in the estimates.

F. Docket ID Number EPA-HQ-OPP-2016-0108

Title: Notice of Supplemental Distribution of a Registered Pesticide Product.

ICR number: EPA ICR No. 0278.13.

OMB control number: OMB Control No. 2070-0044.

ICR status: The approval for this ICR is scheduled to expire on October 31, 2021.

Abstract: This information collection activity notifies the EPA of supplemental distribution of registered pesticide products. As mandated by FIFRA, as amended, EPA is responsible for the regulation of pesticides. FIFRA section 3(e) (7 U.S.C. 136a(e)) allows pesticide products with the same formulation, label claims, and manufacturer as a registered product to be distributed under the same registration as the basic product. Pesticide registrants may distribute or sell registered pesticides under a different product name in addition to the registered name, or under a different entity's name and address. Such distribution and sale is termed “supplemental distribution” and the product is termed a “distributor product.” EPA requires pesticide registrants who enter into supplemental distribution agreements with other companies to submit EPA Form 8570-5, Notice of Supplemental Distribution of a Registered Pesticide Product. Supplemental registrations are only an extension of a currently federally registered pesticide product.

Burden statement: The annual public reporting and recordkeeping burden for this collection of information is estimated to average 0.32 hours per response. The ICR, a copy of which is available in the docket, provides a detailed explanation of this estimate, which is only briefly summarized here:

Respondents/Affected entities: Entities potentially affected by this ICR include those in pesticide and other agricultural chemical manufacturing.

Estimated total number of potential respondents: 1,885.

Frequency of response: On occasion.

Estimated total annual burden hours: 603 hours.

Estimated total annual costs: $54,463. This includes an estimated burden cost of $54,463 and an estimated cost of $0 for non-burden hour paperwork costs, e.g., investment or maintenance and operational costs.

Changes in the estimates from the last approval: There are no changes in the estimates.

G. Docket ID Number EPA-HQ-OPP-2016-0630

Title: Compliance Requirement for Child-Resistant Packaging.

ICR number: EPA ICR No. 0616.13.

OMB control number: OMB Control No. 2070-0052.

ICR status: The approval for this ICR is scheduled to expire on November 30, 2021.

Abstract: This information collection program is designed to provide EPA with assurances that the packaging of pesticide products sold and distributed to the general public in the United States meets standards set forth by the Agency pursuant to FIFRA. Registrants must certify to the Agency that the pesticide packaging or device regulated by this Act meets these standards.

Burden statement: The annual public reporting and recordkeeping burden for this collection of information is estimated to average 3,535 hours per response. The ICR, a copy of which is available in the docket, provides a detailed explanation of this estimate, which is only briefly summarized here:

Respondents/Affected entities: Entities potentially affected by this ICR include pesticide and other agricultural chemical manufacturing, other chemical and allied products merchant wholesalers, exterminating and pest control services.

Estimated total number of potential respondents: 31.

Frequency of response: On occasion.

Estimated total annual burden hours: 3,535 hours.

Estimated total annual costs: $249,292. This includes an estimated burden cost of $249,292 and an estimated cost of $0 for non-burden hour paperwork costs, e.g., investment or maintenance and operational costs.

Changes in the estimates from the last approval: There are no changes in the estimates.

V. What is the next step in the process for these ICRs?

EPA will consider the comments received and amend the individual ICRs as appropriate before submitting the final ICR packages to OMB for review and approval pursuant to 5 CFR 1320.12. EPA will issue another Federal Register document pursuant to 5 CFR 1320.5(a)(1)(iv) to announce the submission of these ICRs to OMB and the opportunity for the public to submit additional comments for OMB consideration. If you have any questions about any of these ICRs or the approval process in general, please contact the person listed under FOR FURTHER INFORMATION CONTACT.

Authority: 44 U.S.C. 3501 et seq.

Dated: July 31, 2020.
Alexandra Dapolito Dunn,
Assistant Administrator, Office of Chemical Safety and Pollution Prevention.

[FR Doc. 2020-17901 Filed 8-14-20; 8:45 am]

BILLING CODE 6560-50-P